DEPARTMENT OF HOMELAND SECURITY

Federal Emergency Management Agency

[Docket ID: FEMA-2012-0019; OMB No. 1660-0073]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. There has been a correction in the burden estimate of 476 since publication of the 60 day Federal Register Notice, 77 FR 27076, May 8, 2012. There has been an adjustment decrease of 114 burden hours due to consolidation of FEMA Form 089-13 with FEMA Form 089-0-10A thru I Workbook. Therefore the estimated total annual burden hours are currently 364 hours.

DATES: Comments must be submitted on or before August 16, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Urban Search and Rescue Grant Program.

Type of information collection: Revision of a currently approved information collection.

Form Titles and Numbers: FEMA Form 089-010A thru I: Workbook, Urban Search Rescue Response System; FEMA Form 089-0-11, Urban Search and Rescue Response System Semi-Annual Performance Report; FEMA Form 089-0-12, Urban Search and Rescue Amendment Form; FEMA form 089-0-14, Urban Search and Rescue Reponse System Task Force Self Evaluation Scoresheet; and FEMA Form 089-0-15, Urban Search and Rescue Response System Task Force Deployment Data.

Abstract: The information collected for the National Urban Search and Rescue Grant Program evaluate the grantee's proposed use of funds and is required information needed in order to receive Federal funding. The forms used in this collections are used by grantees to provide FEMA with cooperative agreements and a description of the types of eligible activities the grantee will undertake and a plan for expending and monitoring funds.

Affected Public: State, Local or Tribal Government.

Estimated Number of Respondents: 28 repondents.

Estimated Total Annual Burden Hours: 364 hours.

Estimated Cost: There are no recordkeeping, capital, start-up maintenance costs associated with this information collection.

Dated: July 11, 2012.
Charlene D. Myrthil,
Director, Records Management Division, Mission Support Bureau, Federal Emergency Management Agency, Department of Homeland Security.

[FR Doc. 2012-17361 Filed 7-16-12; 8:45 am]

BILLING CODE 9111-54-P